DEPARTMENT OF AGRICULTURE

Grain Inspection, Packers and Stockyards Administration

Designation for the Cedar Rapids, IA; Fremont, NE; State of Maryland; and West Lafayette, IN Areas

AGENCY: Grain Inspection, Packers and Stockyards Administration, USDA.

ACTION: Notice.

SUMMARY: GIPSA is announcing the designations of Mid-Iowa Grain Inspection, Inc. (Mid-Iowa); Fremont Grain Inspection Department, Inc. (Fremont); Maryland Department of Agriculture (Maryland); and Titus Grain Inspection, Inc. (Titus) to provide official services under the United States Grain Standards Act (USGSA), as amended.

DATES: Effective Date: July 1, 2016.

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

Read Applications: All applications and comments are available for public inspection at the office above during regular business hours (7 CFR 1.27(c)).

SUPPLEMENTARY INFORMATION: In the March 29, 2016, Federal Register (81 FR 17431), GIPSA requested applications for designation to provide official services in the geographic areas presently serviced by Mid-Iowa, Fremont, Maryland, and Titus. Applications were due by April 28, 2016.

The current official agencies: Mid-Iowa, Fremont, Maryland, and Titus were the only applicants for designation to provide official services in these areas. As a result, GIPSA did not ask for additional comments.

GIPSA evaluated the designation criteria in section 79(f) of the USGSA (7 U.S.C. 79(f)) and determined that Mid-Iowa, Fremont, Maryland, and Titus are qualified to provide official services in the geographic areas specified in the Federal Register on March 29, 2016. This designation to provide official services in the specified area of Mid-Iowa is effective July 1, 2016, to June 30, 2020. This designation to provide official services in the areas of Fremont, Maryland, and Titus is effective July 1, 2016, to June 30, 2021.

Interested persons may obtain official services by contacting these agencies at the following telephone numbers:

Official agency | Headquarters location and telephone | Designation start | Designation end
Mid-Iowa | Cedar Rapids, IA; 319-363-0239 | 7/1/2016 | 6/30/2020
Fremont | Fremont, NE; 402-721-1270 | 7/1/2016 | 6/30/2021
Maryland | Annapolis, MD; 410-841-5769 | 7/1/2016 | 6/30/2021
Titus | West Lafayette, IN; 765-497-2202 | 7/1/2016 | 6/30/2021

Section 79(f) of the USGSA authorizes the Secretary to designate a qualified applicant to provide official services in a specified area after determining that the applicant is better able than any other applicant to provide such official services (7 U.S.C. 79 (f)).

Larry Mitchell,
Administrator, Grain Inspection, Packers and Stockyards Administration.

[FR Doc. 2016-20171 Filed 8-23-16; 8:45 am]

BILLING CODE 3410-KD-P